DEPARTMENT OF JUSTICE

Notice of Lodging of Consent Decree Under the Clean Air Act

Notice is hereby given that on August 4, 2009, a proposed Consent Decree in United States et al. v. Aleris International, Inc. et al., Civil Action No. 1:09-cv-00340, was lodged with the United States District Court for the Northern District of Ohio.

The Consent Decree would resolve claims for injunctive relief and the assessment of civil penalties asserted by the United States; the States of Idaho, Illinois, Indiana, Michigan, Ohio, Tennessee, and West Virginia; the Commonwealths of Kentucky and Virginia; the Oklahoma Department of Environmental Quality; and the Maricopa County Air Quality Department (collectively, “Plaintiffs”) against Aleris International, Inc. and 13 of its subsidiaries (collectively, “Aleris”) pursuant to Sections 113(b) and 304(a)(1) of the Clean Air Act, 42 U.S.C. 7413(b) and 7604(a)(1).

Aleris processes aluminum scrap and dross to produce various secondary aluminum products, a process that results in emissions of regulated air pollutants, including dioxins and furans, hydrogen chloride, particulate matter, and hydrocarbons. The Plaintiffs' Amended Complaint, filed concurrently with the Consent Decree, alleges that Aleris violated Section 112 of the Clean Air Act, 42 U.S.C. 7412; the National Emissions Standards for Hazardous Air Pollutants (“NESHAP”) for Secondary Aluminum Production, codified at 40 CFR part 63, subparts A and RRR; and related provisions of state and local law at 15 of its secondary aluminum production facilities. Specifically, the Amended Complaint alleges that Aleris failed to demonstrate compliance with emission standards through valid performance testing, to design and install adequate capture and collection systems, to correctly establish and monitor operating parameters, and to comply with recordkeeping and reporting requirements.

The Consent Decree would require Aleris to improve its capture of emissions at each emission unit, retest every emission unit using model test protocols, adopt new monitoring practices, use model recordkeeping and reporting documents, and install an additional control device and monitoring equipment at particular facilities. The Consent Decree would also provide for a $4.6 million civil penalty, to be allowed as a prepetition general unsecured claim in Aleris's pending bankruptcy proceeding in the United States Bankruptcy Court for the District of Delaware.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Aleris International, Inc. et al., D.J. Ref. No. 90-5-2-1-08603.

The Consent Decree may be examined at the Office of the United States Attorney, Northern District of Ohio, 801 W. Superior Avenue, Suite 400, Cleveland, OH 44113, and at the United States Environmental Protection Agency, Ariel Rios Building, 1200 Pennsylvania Avenue, NW., Washington, DC 20460. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $95.50 for a copy of the complete Consent Decree (25 cents per page reproduction cost), or $21.00 for a copy without appendices, payable to the U.S. Treasury or, if by e-mail or fax, forward a check in that amount to the Consent Decree Library at the stated address.

Maureen Katz,
Assistant Section Chief, Environmental Enforcement Section, Environment and Natural Resources Division.

[FR Doc. E9-18972 Filed 8-6-09; 8:45 am]

BILLING CODE 4410-15-P